DEPARTMENT OF ENERGY

Federal Energy Regulatory Commission

[Docket No. EL05-46-000]

Entergy Nuclear Operations, Inc., Entergy Nuclear Indian Point 2, LLC, and Entergy Nuclear Indian Point 3, LLC v. Consolidated Edison Company of New York, Inc.; Notice of Complaint

December 21, 2004.

Take notice that on December 20, 2004, Entergy Nuclear Operations, Inc., Entergy Nuclear Indian Point 2, LLC, and Entergy Nuclear Indian Point 3, LLC (collectively Entergy Nuclear-Northeast) filed a complaint against Consolidated Edison Company of New York, Inc. (Con Edison) alleging that Con Edison is charging Entergy Nuclear-Northeast unlawful local distribution charges associated with deliveries of unbundled station power.

Entergy Nuclear-Northeast certifies that copies of the complaint were served on the contacts for Con Edison as listed on the Commission's list of Corporate Officials and on the New York Public Service Commission.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3850 Filed 12-28-04; 8:45 am]

BILLING CODE 6717-01-P